DEPARTMENT OF THE INTERIOR

Bureau of Land Management

[Docket No. 19X.LLIDB00000. L16100000.DP0000. LXSS053D0000.241A. 4500133829

Notice of Availability for the Draft Four Rivers Field Office Resource Management Plan and Associated Environmental Impact Statement

AGENCY: Bureau of Land Management, Interior.

ACTION: Notice of availability.

SUMMARY: In accordance with the National Environmental Policy Act of 1969, as amended, and the Federal Land Policy and Management Act of 1976, as amended, the Bureau of Land Management (BLM) Four Rivers Field Office (FRFO), Boise, Idaho, has prepared a Draft Resource Management Plan (RMP) and associated Draft Environmental Impact Statement (EIS) and by this notice is announcing the release of the Draft RMP.

DATES: To ensure that comments will be considered, the BLM must receive written comments on the Draft RMP/Draft EIS within 90 days following the date the Environmental Protection Agency publishes its Notice of Availability of the Draft RMP/Draft EIS in the Federal Register. The BLM will announce future meetings or hearings and any other public participation activities at least 15 days in advance through public notices, media releases, and/or mailings.

ADDRESSES: You may submit comments related to the FRFO Draft RMP/Draft EIS by any of the following methods:

• Website: http://go.usa.gov/xnsn6 (case sensitive)

• Email: Four_Rivers_RMP@blm.gov.

• Fax: 208-384-3326.

• Mail: Four Rivers Field Office, Attn: Brent Ralston, 3948 S Development Ave. Boise, Idaho 83705.

Copies of the FRFO Draft RMP/Draft EIS are available in the Boise District Office at the above address; at the Idaho BLM State Office, 1387 South Vinnell Way, Boise, ID 83709; and online at the following website: http://go.usa.gov/xnsn6.

FOR FURTHER INFORMATION, CONTACT: For further information, contact Pam Murdock, Project Lead, telephone 208-384-3300; address 3948 S Development Ave., Boise, Idaho 83705; email Four_Rivers_RMP@blm.gov. Persons who use a telecommunications device for the deaf (TDD) may call the Federal Relay Service (FRS) at 1-800-877-8339 to contact Ms. Murdock. The FRS is available 24 hours a day, 7 days a week, to leave a message or question with Ms. Murdock. You will receive a reply during normal business hours.

SUPPLEMENTARY INFORMATION: The FRFO encompasses an area located in southwestern Idaho extending north of the Snake River from approximately Glenns Ferry in the southeast, west to Weiser, and north to McCall. The planning area includes all of the FRFO located outside the Morley Nelson Snake River Birds of Prey National Conservation Area which is governed by a separate RMP. The planning area encompasses approximately 783,000 surface acres and 1,173,150 acres of mineral estate in Ada, Adams, Boise, Camas, Canyon, Elmore, Gem, Owyhee, Payette, Valley and Washington counties administered by the BLM. Much of the planning area comprises interspersed sections of public, private, State or Forest Service lands.

The FRFO currently manages land in accordance with the 1983 Kuna Management Framework Plan (MFP), the 1987 Jarbidge RMP, and the 1988 Cascade RMP. These plans have been amended since originally approved. This planning effort will identify goals and objectives and update management guidance to create a new RMP. The BLM engaged in public scoping to help identify planning issues that directed the formulation of alternatives and framed the analysis in the Draft RMP/Draft EIS. Issues include managing the scattered BLM-administered land base, balancing increasing public demand with conservation of fragile resources and balancing resource uses (including energy development). The planning effort also considers socio-economic concerns and special designations including lands with wilderness characteristics, wild and scenic rivers and Areas of Critical Environmental Concern (ACECs).

The Draft RMP/Draft EIS evaluates four alternatives in detail. Alternative A is the No Action Alternative, which is a continuation of current management, public use, resource protection, and conservation prescriptions in the existing RMPs and MFP, as amended. It does not address issues that were nonexistent or unforeseen when the BLM prepared the original RMPs and MFP.

Alternative B emphasizes protecting natural resource values from potential impacts of population growth and increased use and incorporates protective measures for plants and wildlife compared to other alternatives. While some areas would still emphasize recreation and community development uses, the primary emphases are for conservation and reduction of habitat fragmentation and resource degradation.

Alternative C focuses on accommodating increased population growth and use of public lands within the planning area by emphasizing land disposal for local community expansion, providing economic expansion through extractive and renewable energy resource use and continues to provide recreational opportunities.

Alternative D is the Preferred Alternative, and emphasizes managing public lands to promote economic development while maintaining natural resource values. This alternative recognizes the diverse issues and needs throughout the planning area by promoting a balanced use of resources including management for oil and gas leasing and development, livestock grazing, recreational use and wildlife habitat, including big game winter range and migration corridors.

In the Draft EIS, the BLM proposes and evaluates ACECs to protect specific resource values and other uses where appropriate. Pursuant to 43 CFR 1610.7-2(b), this notice announces a concurrent public comment period for potential ACECs. A more detailed summary of all proposed ACECs is available at the project website provided above.

ACEC name | Alternative A acres | Alternative B acres | Alternative C acres | Alternative D acres
Bannister Basin |  | 5,840 |  |
Boise Front | 11,360 | 24,630 |  |
Buckwheat Flats |  | 200 |  |
Cartwright Canyon | 400 |  |  |
Cherry Gulch |  | 3,070 |  |
Hixon-CSTG Habitat | 4,170 | 21,100 | 12,870 | 18,660
Goodrich Creek |  | 450 |  |
Hulls Gulch | 120 |  |  |
King Hill Creek | 840 | 2,840 |  |
Curlew Habitat | 45,020 | 46,310 | 26,810 | 26,810
Lost Basin |  | 60 |  |
Mountain Home |  | 520 |  |
Rebecca Sandhill |  | 1,250 |  |
Sand-capped Knob | 40 | 180 |  |
Sand Hollow | 1,300 | 1,330 |  |
Sheep Creek |  | 1,970 |  |
Summer Creek |  | 630 |  |
Willow Creek | 1,010 | 1,120 |  |
Woods Gulch | 40 | 40 |  |

Pertinent information regarding the ACECs proposed for designation in Alternative D:

• Hixon Columbian Sharp-tailed Grouse (CSTG) Habitat ACEC: The 1988 Cascade RMP designated 4,170 acres as the Hixon CSTG Habitat ACEC to intensify habitat management for one of the last remaining populations of CSTG in western Idaho. Alternative D expands the ACEC to include lands acquired through purchase or exchange since the last planning effort and maintains habitat management objectives. The alternative would allow development activities within the ACEC, subject to restrictions, in order to maintain CSTG habitat. Salable mineral development would be allowed on sites more than 0.5 miles from key nesting and brood-rearing habitat as long as it does not exceed two acres in size, and would be subject to seasonal restrictions; the ACEC would be open to fluid mineral leasing subject to moderate constraints; all rights-of-way would be subject to timing restrictions and aboveground facilities would only be authorized if co-located with existing facilities; renewable energy development would not be allowed; and livestock grazing would be managed to maintain or enhance CSTG habitat.

• Long-billed Curlew Habitat ACEC: The 1988 Cascade RMP designated this ACEC to protect crucial nesting habitat for the curlew. Alternative D retains the ACEC designation for areas that continue to provide suitable habitat. The ACEC includes the following management prescriptions: Salable mineral development is allowed on sites more than 0.5 miles from key nesting and brood-rearing habitat, as long as it does not exceed five acres in size and conforms to seasonal restrictions; fluid mineral leasing is open subject to moderate constraints; and excludes wind energy rights-of-way.

The BLM initiated the land-use planning process on April 3, 2008, through a Notice of Intent published in the Federal Register (73 FR 18298), notifying the public of a formal scoping period and soliciting public participation. Since 2008, the BLM has held multiple meetings with Tribal governments, stakeholders, interest groups, cooperating agencies, counties and the public.

After the public comment period, the BLM will use substantive public comments to revise the Draft RMP/Draft EIS in preparation for its release as the Proposed RMP/Final EIS. The Notice of Availability for the Proposed RMP/Final EIS will be published in the Federal Register.

Before including your address, phone number, email address, or other personal identifying information in your comment, you should be aware that your entire comment—including your personal identifying information—may be made publicly available at any time. While you can ask us in your comment to withhold your personal identifying information from public review, we cannot guarantee that we will be able to do so.

Authority: 40 CFR 1506.6, 40 CFR 1506.10, 43 CFR 1610.2.

John F. Ruhs,
Idaho BLM State Director.

[FR Doc. 2019-10738 Filed 5-23-19; 8:45 am]

BILLING CODE 4310-GG-P